DEPARTMENT OF TRANSPORTATION

Federal Aviation Administration

14 CFR Part 39

[Docket No. 2000-NM-48-AD]

RIN 2120-AA64

Airworthiness Directives; Airbus Model A310 and A300-600 Series Airplanes

AGENCY: Federal Aviation Administration, DOT.

ACTION: Notice of proposed rulemaking (NPRM).

SUMMARY: This document proposes the supersedure of an existing airworthiness directive (AD), applicable to certain Airbus Model A310 and A300-600 series airplanes, that currently requires wiring modifications to the engine and auxiliary power unit (APU) fire detection system. This action would require new wiring modifications for the engine and APU fire detection system. This proposal is prompted by issuance of mandatory continuing airworthiness information by a foreign civil airworthiness authority. The actions specified by the proposed AD are intended to prevent the fire warning from terminating prematurely, which could result in an unnoticed, uncontained engine/APU fire.

DATES: Comments must be received by September 1, 2000.

ADDRESSES: Submit comments in triplicate to the Federal Aviation Administration (FAA), Transport Airplane Directorate, ANM-114, Attention: Rules Docket No. 2000-NM-48-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-nprmcomment@faa.gov. Comments sent via fax or the Internet must contain “Docket No. 2000-NM-48-AD” in the subject line and need not be submitted in triplicate. Comments sent via the Internet as attached electronic files must be formatted in Microsoft Word 97 for Windows or ASCII text.

The service information referenced in the proposed rule may be obtained from Airbus Industrie, 1 Rond Point Maurice Bellonte, 31707 Blagnac Cedex, France. This information may be examined at the Federal Aviation Administration (FAA), Transport Airplane Directorate, Rules Docket, 1601 Lind Avenue, SW., Renton, Washington.

FOR FURTHER INFORMATION CONTACT: Norman B. Martenson, Manager, International Branch, ANM-116, FAA, Transport Airplane Directorate, 1601 Lind Avenue, SW., Renton, Washington 98055-4056; telephone (425) 227-2110; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this notice may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this notice must submit a self-addressed, stamped postcard on which the following statement is made: “Comments to Docket Number 2000-NM-48-AD.” The postcard will be date stamped and returned to the commenter.

Availability of NPRMs

Any person may obtain a copy of this NPRM by submitting a request to the FAA, Transport Airplane Directorate, ANM-114, Attention: Rules Docket No. 2000-NM-48-AD, 1601 Lind Avenue, SW., Renton, Washington 98055-4056.

Discussion

On December 23, 1999, the FAA issued AD 99-27-10, amendment 39-11491 (65 FR 204, January 4, 2000), applicable to certain Airbus Model A310 and A300-600 series airplanes, to require wiring modifications to the engine and auxiliary power unit (APU) fire detection system. That action was prompted by issuance of mandatory continuing airworthiness information by a foreign civil airworthiness authority. The requirements of that AD are intended to prevent the fire warning from terminating prematurely, which could result in an unnoticed, uncontained engine/APU fire.

Actions Since Issuance of Previous Rule

Since the issuance of AD 99-27-10, the FAA has received a report that the modification procedures, specified in Airbus Service Bulletin A310-26-2024, Revision 04, dated March 5, 1999 (for Model A310 series airplanes) and A300-26-6038, dated March 5, 1999, and Revision 1, dated September 8, 1999 (for Model A300-600 series airplanes), were inadequate. Although those service bulletins were referenced as appropriate sources of information by AD 99-27-10, operators reported that they were unable to accomplish the hook-up procedures specified in those service bulletins. As a result, a later revision of French airworthiness directive 1999-238-286(B) R2, dated May 17, 2000, was issued, which references two new service bulletins that revise the modification procedures.

Explanation of Relevant Service Information

Airbus has issued the following service bulletins to replace the procedures specified in earlier revisions of the service bulletins, which were referenced in AD 99-27-10.

• 310-26-2024, Revision 06, dated March 31, 2000 (for Model A310 series airplanes), specifies that additional work is necessary on certain airplanes that have accomplished Modification 06845 in accordance with Airbus Service Bulletin A320-26-2024, Revision 05, dated November 9, 1999. Revision 06 was issued to include improved hook-up and test procedures, change certain bundle part numbers, add a new kit number for certain airplanes, and update certain configuration numbers for certain airplanes.

• A300-26-6038, Revision 02, dated November 9, 1999, and Revision 03, dated March 30, 2000 (for Model A300-600 series airplanes) were issued to include improved hook-up procedures. Revision 02 specifies an additional Kit A03, and Revision 03 changes certain bundle part numbers, updates certain configuration numbers, and increases the work hours for accomplishing the modification.

The wiring modification procedures provided by these service bulletins include the use of new kits for the engine and APU fire detection system in relay box 282VU and the electronics rack 90VU. Procedures also specify new wiring modifications to the avionics compartment, which include the 20VU overhead panel, 282VU relay box, and 90VU electronics rack. After accomplishing the actions specified in those service bulletins, the manufacturer reports that it will no longer be necessary to manually disengage a faulty loop, and that the fire warning system will remain activated even if one loop becomes inoperative. The actions specified by the service bulletins are intended to significantly improve the airplane fire detection system.

The Direction Générale de l'Aviation Civile (DGAC), which is the airworthiness authority for France, classified these service bulletins as mandatory and issued French airworthiness directive 1999-238-286(B) R2, dated May 17, 2000, in order to assure the continued airworthiness of these airplanes in France.

FAA's Conclusions

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of Proposed Rule

Since an unsafe condition has been identified that is likely to exist or develop on other airplanes of the same type design registered in the United States, the proposed AD would supersede AD 99-27-10 to propose new wiring modifications for the engine and APU fire detection system. Such modifications include the use of new kits for the fire detection system in relay box 282VU and the electronics rack 90VU, changes to the configuration numbers and bundle part numbers for certain airplanes, and revisions to the hook-up charts. The actions would be required to be accomplished in accordance with the applicable service bulletins described previously.

Cost Impact

There are approximately 113 Model A310 and A300-600 series airplanes of U.S. registry that would be affected by this proposed AD.

The actions that are proposed in this AD action would take approximately 26 work hours per airplane to accomplish, at an average labor rate of $60 per work hour. Required parts would cost approximately $484 per airplane. Based on these figures, the cost impact of the proposed requirements of this AD on U.S. operators is estimated to be $230,972, or $2,044 per airplane.

The cost impact figures discussed above are based on assumptions that no operator has yet accomplished any of the current or proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-11491 (65 FR 204, January 4, 2000), and by adding a new airworthiness directive (AD), to read as follows:

Airbus Industrie: Docket 2000-NM-48-AD. Supersedes AD 99-27-10, Amendment 39-11491.

Applicability: Model A310 and A300-600 series airplanes, certificated in any category; except those on which Airbus Modifications 06267 and 07340 have been accomplished during production.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (b)(1) of this AD. The request should include an assessment of the effect of the modification, alteration, or repair on the unsafe condition addressed by this AD; and, if the unsafe condition has not been eliminated, the request should include specific proposed actions to address it.

Compliance: Required as indicated, unless accomplished previously.

To prevent the fire warning from terminating prematurely, which could result in an unnoticed, uncontained engine/auxiliary power unit (APU) fire, accomplish the following:

Modifications

(a) Within 12 months after the effective date of this AD, accomplish the wiring modifications for the engine and APU fire detection system in accordance with Airbus Service Bulletin A300-26-6038, Revision 03, dated March 30, 2000 (for Model A300-600 series airplanes); or A310-26-2024, Revision 06, dated March 31, 2000 (for Model A310 series airplanes); as applicable.

Note 2: Accomplishment of the wiring modifications prior to the effective date of this AD in accordance with Airbus Service Bulletin A300-26-6038, Revision 02, dated November 9, 1999, is considered acceptable for compliance with the applicable actions specified in this AD.

Alternative Method of Compliance

(b)(1) An alternative method of compliance or adjustment of the compliance time that provides an acceptable level of safety may be used if approved by the Manager, International Branch, ANM-116, FAA, Transport Airplane Directorate. Operators shall submit their requests through an appropriate FAA Principal Maintenance Inspector, who may add comments and then send it to the Manager, International Branch, ANM-116.

(2) Alternative methods of compliance, approved previously in accordance with AD 99-27-10, are approved as alternative methods of compliance with paragraph (a) of this AD.

Note 3: Information concerning the existence of approved alternative methods of compliance with this AD, if any, may be obtained from the International Branch, ANM-116.

Special Flight Permits

(c) Special flight permits may be issued in accordance with sections 21.197 and 21.199 of the Federal Aviation Regulations (14 CFR 21.197 and 21.199) to operate the airplane to a location where the requirements of this AD can be accomplished.

Note 4: The subject of this AD is addressed in French airworthiness directive 1999-238-286(B) R2, dated May 17, 2000.

Issued in Renton, Washington, on July 25, 2000.
Donald L. Riggin,
Acting Manager, Transport Airplane Directorate, Aircraft Certification Service.

[FR Doc. 00-19265 Filed 8-1-00; 8:45 am]

BILLING CODE 4910-13-U